DEPARTMENT OF HEALTH AND HUMAN SERVICES

Centers for Disease Control and Prevention

National Center for Environmental Health/Agency for Toxic Substances and Disease Registry; The Program Peer Review Subcommittee of the Board of Scientific Counselors (BSC), Centers for Disease Control and Prevention (CDC), National Center for Environmental Health/Agency for Toxic Substances and Disease Registry (NCEH/ATSDR): Teleconference

In accordance with section 10(a)(2) of the Federal Advisory Committee Act (Pub. L. 92-463), CDC, NCEH/ATSDR announces the aforementioned subcommittee meeting:

Time and Date: 10 a.m.-12 p.m. Eastern Standard Time, February 6, 2007.

Place: The teleconference will originate at NCEH/ATSDR in Atlanta, Georgia. To participate, dial 877/315-6535 and enter conference code 383520.

Purpose: Under the charge of the BSC, NCEH/ATSDR, the PPRS will provide the BSC, NCEH/ATSDR with advice and recommendations on NCEH/ATSDR program peer review. They will serve the function of organizing, facilitating, and providing a long-term perspective to the conduct of NCEH/ATSDR program peer review.

Matters To Be Discussed: A discussion of Preparedness and Emergency Response Peer Review: (1) Breadth and approach of the review, (2) areas of expertise required for the review, and (3) nominations for a PPRS panel member, a chairperson, peer reviewers, partners and customers; a report on the Site Specific Activities Peer Review; and approval of the revised Peer Reviewer Conflict-of-Interest Form.

Agenda items are subject to change as priorities dictate.

Supplementary Information: This meeting is scheduled to begin at 10 a.m. Eastern Standard Time. To participate, please dial 877/315-6535 and enter conference code 383520. Public comment period is scheduled for 11 a.m.-11:10 a.m.

For Further Information Contact: Sandra Malcom, Committee Management Specialist, Office of Science, NCEH/ATSDR, MS E-28, 1600 Clifton Road, NE., Atlanta, Georgia 30333, telephone 404/498-0622.

The Director, Management Analysis and Services Office, has been delegated the authority to sign Federal Register notices pertaining to announcements of meetings and other committee management activities for both CDC and NCEH/ATSDR.

Dated: January 12, 2007.
Edward Schultz,
Acting Director, Management Analysis and Services Office, Centers for Disease Control and Prevention.

[FR Doc. E7-707 Filed 1-18-07; 8:45 am]

BILLING CODE 4163-18-P